DEPARTMENT OF THE TREASURY

Submission for OMB Review; Comment Request

August 29, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 6, 2000 to be assured of consideration.

Internal Revenue Service (IRS)

OMB Number: 1545-0945.

Regulation Project Number: FI-255-82 NPRM and Temporary.

Type of Review: Extension.

Title: Registration Requirements with Respect to Debt Obligations.

Description: The rule requires an issuer of a registration-required obligation and any person holding the obligation as a nominee or custodian on behalf of another to maintain ownership records in a manner which will permit examination by the IRS in connection with enforcement of the Internal Revenue laws.

Respondents: Business or other for-profit, State, Local, or Tribal Government.

Estimated Number of Recordkeepers: 50,000.

Estimated Burden Hours Per Recordkeeper: 1 hour.

Estimated Total Recordkeeping Burden: 50,000 hours.

OMB Number: 1545-0950.

Form Number: IRS Form 23.

Type of Review: Extension.

Title: Application for Enrollment to Practice Before the Internal Revenue Service.

Description: Form 23 must be completed by those who desire to be enrolled to practice before the Internal Revenue Service. The information on the form will be used by the Director of Practice to determine the qualifications and eligibility of applicants for enrollment.

Respondents: Individuals or households, Federal Government.

Estimated Number of Respondents: 2,400.

Estimated Burden Hours Per Respondent: 1 hour.

Frequency of Response: Other (one-time filing).

Estimated Total Reporting/Recordkeeping Burden: 2,400 hours.

OMB Number: 1545-0991.

Form Number: IRS Form 8633.

Type of Review: Extension.

Title: Application to Participate in the IRS e-file Program.

Description: Form 8633 is used by tax preparers, electronic return collectors, software firms, service bureaus and electronic transmitter, as an application to participate in the electronic filing program covering individual income tax returns.

Respondents: Business or other for-profit, Not-for-profit institutions.

Estimated Number of Respondents: 50,000.

Estimated Burden Hours Per Respondent: 1 hour.

Frequency of response: Annually.

Estimated Total Reporting Burden: 50,000 hours.

OMB Number: 1545-1561.

Regulation Project Number: EE-175-86 Final.

Type of Review: Extension.

Title: Certain Cash or Deferred Arrangements and Employee and Matching Contributions under Employee Plans.

Description: The IRS needs this information to insure compliance with sections 401(k), 401(m), and 4979 of the Internal Revenue Code. Certain additional taxes may be imposed if sections 401(k) and 401(m) are not complied with.

Respondents: Business or other for-profit institutions, farms, State, Local or Tribal Government.

Estimated Number of Respondents/Recordkeepers: 355,500.

Estimated Burden Hours Per Respondent/Recordkeeper: 3 hours.

Frequency of response: Annually.

Estimated Total Reporting/Recordkeeping Burden: 1,060,0900 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 00-22706 Filed 9-5-00; 8:45 am]

BILLING CODE 4830-01-P